DEPARTMENT OF STATE

[Public Notice 7326]

U.S. Advisory Commission on Public Diplomacy; Notice of Meeting

The U.S. Advisory Commission on Public Diplomacy will hold a public meeting from 10 a.m. to 11 a.m. on September 15, 2011, in the Loy Henderson conference room of the State Department's Harry S Truman building at 2201 C Street, NW.

The meeting will include the Bureau of Educational and Cultural Affairs. The Commission welcomes Principal Deputy Assistant Secretary of State for Educational and Cultural Affairs Adam Ereli to brief the Commission, and the public, on the activities and direction of ECA.

This meeting is open to the public, Members and staff of Congress, the State Department, Defense Department, the media, and other governmental and non-governmental organizations. To attend or request further information, contact the Commission at (202) 203-7463 or pdcommission@state.gov by 5p.m. on September 12, 2011. Please arrive for the meeting by 9:45a.m. to allow for a prompt meeting start.

As access to the Department of State facilities is controlled, members of the public wishing to attend the meeting must notify the Commission, not later than 5p.m., September 12, 2011, providing the information below. If notified after this date, the Department's Bureau of Diplomatic Security may not be able to complete the necessary processing required to attend the meeting. A person requesting reasonable accommodation should notify the Commission by the same date.

Each member of the public wishing to attend the meeting should provide: His/her name, company or organizational affiliation; phone number; date of birth; and identifying data such as driver's license number, U.S. Government ID, or U.S. Military ID, to the Commission. A RSVP list will be provided to Diplomatic Security. One of the following forms of valid photo identification will be required for admission to the Department of State building: U.S. driver's license, passport, U.S. Government ID or other valid photo ID. Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database. Please see the Privacy Impact Assessment for VACS-D at http://www.state.gov/documents/organization/100305.pdf for additional information.

The United States Advisory Commission on Public Diplomacy appraises U.S. Government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

The Commission consists of seven members appointed by the President, by and with the advice and consent of the Senate. The members of the Commission shall represent the public interest and shall be selected from a cross section of educational, communications, cultural, scientific, technical, public service, labor, business, and professional backgrounds. Not more than four members shall be from any one political party. The President designates a member to chair the Commission.

The current members of the Commission are: Mr. William Hybl of Colorado, Chairman; Ambassador Lyndon Olson of Texas, Vice Chairman; Ambassador Penne Korth-Peacock of Texas; Ms. Lezlee Westine of Virginia; and, Mr. Sim Farar of California. Two seats on the Commission are currently vacant.

The following individual has been nominated to the Commission but awaits Senate confirmation as of this writing: Anne Wedner of Illinois.

The Advisory Commission was originally established under Section 604 of the United States Information and Exchange Act of 1948, as amended (22 U.S.C. 1469) and Section 8 of Reorganization Plan Numbered 2 of 1977. It was reauthorized pursuant to Public Law 111-70 (2009), 22 U.S.C. 6553, and has been further authorized through September 30, 2011.

This announcement might appear in the Federal Register less than 15 days prior to the meeting. The Department of State finds that there is an exceptional circumstance in that, given the pending expiration of this advisory committee's authorization and the availability of the speakers, the meeting must be held on the date scheduled.

Dated: August 29, 2011.
Matthew C. Armstrong,
Executive Director, Department of State.

[FR Doc. 2011-22978 Filed 9-7-11; 8:45 am]

BILLING CODE 4710-11-P